DEPARTMENT OF DEFENSE

GENERAL SERVICES ADMINISTRATION

NATIONAL AERONAUTICS AND SPACE ADMINISTRATION

48 CFR Part 17

[FAR Case 99-004]

RIN 9000-AI42

Federal Acquisition Regulation; Executive Agent

AGENCIES: Department of Defense (DoD), General Services Administration (GSA), and National Aeronautics and Space Administration (NASA).

ACTION: Withdrawal of proposed rule.

SUMMARY: The Civilian Agency Acquisition Council and the Defense Acquisition Regulations Council (Councils) agreed to withdraw FAR case 99-004, Executive Agent, because it is no longer necessary. The proposed rule was published in the Federal Register at 64 FR 44100, August 12, 1999.

FOR FURTHER INFORMATION CONTACT: The FAR Secretariat, Room 4035, GS Building, Washington, DC 20405, (202) 501-4755 for information pertaining to status or publication schedules. For clarification of content, contact Mr. Ralph De Stefano, Procurement Analyst, at (202) 501-1758. Please cite FAR case 99-004, withdrawal.

SUPPLEMENTARY INFORMATION:

A. Background

The rule which was published in the Federal Register at 64 FR 44100, August 12, 1999, proposed amending FAR part 17 to add another example of an interagency acquisition that is not subject to the Economy Act. This rule is being withdrawn because it is no longer necessary.

List of Subjects in 48 CFR Part 17

Government procurement.

Dated: May 17, 2000.
Edward C. Loeb,
Director, Federal Acquisition Policy Division.

[FR Doc. 00-12868 Filed 5-22-00; 8:45 am]

BILLING CODE 6820-EP-U